DEPARTMENT OF AGRICULTURE

Rural Business-Cooperative Service

Notice of Public Meeting on Cooperative Research Agenda

AGENCY: Rural Business-Cooperative Service, USDA.

ACTION: Notice of public meeting.

SUMMARY: This is to notify cooperatives and cooperative associations, university personnel, public and private researchers with interests in agricultural and other rural cooperative policy, and other interested persons that Rural Business-Cooperative Service (RBS) is holding a public meeting for interested persons to express their views on the research needs of rural cooperatives with an emphasis on their business and organizational challenges and appropriate policies for strengthening agricultural and rural cooperatives in the United States.

DATES: The public meeting will be held on September 27, 2005, starting at 9 a.m. eastern time, with registration at 8 a.m. The public meeting will end at 3 p.m. unless concluded earlier.

ADDRESSES: The public meeting will be held in Room 107A Whitten Building, U.S. Department of Agriculture, 1400 Independence Avenue, SW., Washington, DC. Persons interested in making a presentation at the meeting should send a written request to Dr. John R. Dunn, Director, Cooperative Resources Management Division, Rural Business-Cooperative Service, Room 4206-S, stop 3253, 1400 Independence Avenue, SW., Washington, DC 20250-3253. Persons that cannot attend the meeting may submit written comments to Dr. John R. Dunn, Director, Cooperative Resources Management Division, Rural Business-Cooperative Service, Room 4206-S, stop 3253, 1400 Independence Avenue, SW., Washington, DC 20250-3253 no later than September 30, 2005.

FOR FURTHER INFORMATION CONTACT: Dr. John R. Dunn, Director, Cooperative Resources Management Division, Rural Business-Cooperative Service, Room 4206-S, stop 3253, 1400 Independence Avenue, SW., Washington, DC 20250-3253, telephone: (202) 720-1374.

SUPPLEMENTARY INFORMATION: The meeting will be conducted by representatives of the Department of Agriculture. The proceedings of the meeting will be transcribed and considered in the development of the cooperative research agenda undertaken by Rural Development's Cooperative Programs in support of the research provisions of the Cooperative Marketing Act of 1926. The purpose of the meeting is to collect input and recommendations from the cooperative and cooperative research communities on priority research topics and research strategies. The Agency will compile written presentations and retain them as a summary of the meeting.

To schedule oral testimony for the public meeting, notify Dr. Dunn, in writing, at the above address. Requests may be sent by facsimile transfer to (202) 690-1375 or e-mailed to: john.dunn@wdc.usda.gov. Persons who wish to make oral presentations must restrict presentations to 15 minutes and are encouraged to have written copies of their complete comments, including exhibits, for inclusion in the official record. Written copies should be sent to Dr. Dunn in advance of the meeting. Persons who register at the public meeting and have not been scheduled in advance to present oral testimony will be given an opportunity to do so if time permits. Otherwise, such persons will be allowed the opportunity to submit their views in writing by October 7, 2005, for inclusion in the official record.

Subject to the limitations described in the preceding paragraph, any interested person will be given the opportunity to appear and be heard with respect to matters relevant and material to the subject. However, presiding officials may limit the number of times that any one person may be heard and limit or exclude material that is irrelevant, immaterial, or unduly repetitious. Such action is intended to focus the discussion on the relevant issues, to ensure that all interested persons have an opportunity to participate to the extent time permits, and to prevent undue prolongation of the meeting. Presiding officials may ask questions at the meeting of persons making presentations. The questions and responses will become a part of the official record.

Copies of the official record of the meeting will not be available for distribution from the Department. However, the record will be available for public inspection in Room 4206 at the Cooperative Programs offices, Room 4206 South Building, 1400 Independence Avenue, SW., Washington, DC, during regular business hours.

Dated: August 5, 2005.
Peter J. Thomas,
Administrator, Rural Business-Cooperative Service.

[FR Doc. 05-16525 Filed 8-19-05; 8:45 am]

BILLING CODE 3410-XY-P